DEPARTMENT OF TRANSPORTATION

Federal Aviation Administration

[Proposed Policy Statement No. ANE-2002-33.15-R0]

Policy for 14 CFR 33.15, Materials

AGENCY: Federal Aviation Administration, DOT.

ACTION: Notice of proposed policy statement; request for comments.

SUMMARY: The Federal Aviation Administration (FAA) announces the availability of proposed policy for 14 CFR 33.15, Materials.

DATES: Comments must be received by August 1, 2003.

ADDRESSES: Send all comments on the proposed policy to the individual identified under FOR FURTHER INFORMATION CONTACT.

FOR FURTHER INFORMATION CONTACT: Tim Mouzakis, FAA, Engine and Propeller Standards Staff, ANE-110, 12 New England Executive Park, Burlington, MA 01803; e-mail timoleon.mouzakis@faa.gov, telephone: (781) 238-7114; fax: (781) 238-7199.

SUPPLEMENTARY INFORMATION:

Comments Invited

The proposed policy statement is available on the Internet at the following address: http://www.airweb.faa.gov/rgl. If you do not have access to the Internet, you may request a copy by contacting the individual listed under FOR FURTHER INFORMATION CONTACT. The FAA invites interested parties to comment on the proposed policy. Comments should identify the subject of the proposed policy and be submitted to the individual identified under FOR FURTHER INFORMATION CONTACT. The FAA will consider all comments received by the closing date before issuing the final policy.

Background

The FAA, in cooperation with industry, has developed a mult-faceted strategy to improve the safety of high-energy rotors. This strategy includes improving the ultrasonic (UT) billet inspection of titanium (Ti) alloys used in fan disks and other critical rotating engine hardware. The proposed policy would establish minimum safety standards for the UT billet inspection of Ti material used in the manufacturing of engine rotating components. The proposed policy would not establish new requirements.

Authority: 49 U.S.C. 106(g), 40113, 44701-44702, 44704.

Issued in Burlington, Massachusetts, on June 9, 2003.
Francis A. Favara,
Assistant Manager, Engine and Propeller Directorate, Aircraft Certification Service.

[FR Doc. 03-15144 Filed 6-13-03; 8:45 am]

BILLING CODE 4910-13-M